THE NATIONAL FOUNDATION ON THE ARTS AND THE HUMANITIES

Federal Council on the Arts and the Humanities; Renewal of the Advisory Committee: Arts and Artifacts Indemnity Panel

AGENCY: Federal Council on the Arts and the Humanities.

ACTION: Notice of Federal Advisory Committee Renewal.

SUMMARY: The Federal Council on the Arts and the Humanities has determined to renew the charter of its Advisory Committee, the Arts and Artifacts Indemnity Panel.

FOR FURTHER INFORMATION CONTACT: Lisette Voyatzis, Committee Management Officer, at (202) 606-8322. Written comments should be submitted to Alice Whelihan, Indemnity Administrator, National Endowment for the Arts, 1100 Pennsylvania Avenue NW., Washington, DC 20506. Electronic comments may be submitted to Alice Whelihan at whelihaa@arts.gov.

SUPPLEMENTARY INFORMATION: The Federal Council on the Arts and the Humanities (“Council”) has determined to renew the charter of its Arts and Artifacts Indemnity Panel. The Council has determined that renewing the advisory committee is in the public interest in connection with the duties imposed on the Council by the Arts and Artifacts Indemnity Act, 20 U.S.C. 971 et seq., as amended. The Arts and Artifacts Indemnity Panel has been renewed through November 28, 2013. Pursuant to section 14(a) (2) of the Federal Advisory Committee Act, the committee may again be renewed at that time.

Lisette Voyatzis,
Advisory Committee Management Officer.

[FR Doc. 2011-30973 Filed 12-1-11; 8:45 am]

BILLING CODE 7536-01-P